DEPARTMENT OF JUSTICE

Antitrust Division

Notice Pursuant to the National Cooperative Research and Production Act of 1993—Medical Technology Enterprise Consortium

Notice is hereby given that, on October 17, 2019, pursuant to Section 6(a) of the National Cooperative Research and Production Act of 1993, 15 U.S.C. 4301 et seq. (“the Act”), Attorney General and the Federal Trade Commission (“MTEC”) has filed written notifications simultaneously with the Attorney General and the Federal Trade Commission disclosing changes in its membership. The notifications were filed for the purpose of extending the Act's provisions limiting the recovery of antitrust plaintiffs to actual damages under specified circumstances. Specifically, Alentic Microscience Inc., Halifax, Nova Scocia, Canada; Allied Technologies and Consulting, LLC, Frederick, MD; Amicrobe, Inc., Carlsbad, CA; BioTether Sciences, Inc., San Rafael, CA; Boa Biomedical, Inc., Cambridge, MA; Booz Allen Hamilton, Inc., McLean, VA; bR3 UNIQ, Inc. dba QUADYSTER, Bettendorf, IA; Calimex USA Corporation, San Francisco, CA; Cognosante, Falls Church, VA; Concurrent Technologies Corporation, Johnstown, PA; CUBRC, Inc., Buffalo, NY; Dawson Technical Inc., Irvine, CA; Distributed Bio, South San Francisco, CA; Expression Networks LLC, Washington, DC; GoDx, Inc., Madison, WI; InnoSense LLC, Torrance, CA; J. David Gladstone Institutes, San Francisco, CA; Kane Biotech Inc., Winnipeg, Manitoba, MB; Kindred Biosciences, Inc., Burlingame, CA; Latham BioPharm Group Inc., Cambridge, MA; MO-SCI Corporation, Rolla, MO; MRI Global, Kansas City, MO; Nanohmics Inc., Austin, TX; NUES LLC, Silver Spring, MD; Odic Incorporated, Littleton, MA; Ontario Corp. dba Flosonics Medical, Sudbury, Ontario, Canada; PEER Technologies PLLC, Fairfax, VA; PolarityTE MD, Inc., Salt Lake City, UT; Praeses, LLC, Shreveport, LA; Presence Product Group, LLC, San Francisco, CA; Regents of the University of Colorado Denver, Aurora, CO; Rochal Industries LLC, San Antonio, TX; SmartPoints Technology, Inc., Stow, MA; Tasso, Inc., Seattle, WA; TBT Pharma, LLC, Baltimore, MD; The Children's Hospital of Philadelphia Research Institute, Philadelphia, PA; The Pennsylvania State University, University Park, PA; and Wello, Inc., Addison, TX, have been added as parties to this venture.

Also, Centaur Biopharmaceutical Services, Inc., Burlingame, CA, has withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on July 11, 2019. A notice was published in the Federal Register pursuant to Section 6(b) of the Act on August 1, 2019 (84 FR 37680).

Suzanne Morris,
Chief, Premerger and Division Statistics Unit Antitrust Division.

[FR Doc. 2019-24477 Filed 11-8-19; 8:45 am]

BILLING CODE 4410-11-P